DEPARTMENT OF THE INTERIOR

National Park Service

Notice of Intent to Repatriate Cultural Items: Department of Natural Resources, Des Moines, IA and Office of the State Archaeologist, Iowa City, IA

AGENCY: National Park Service, Interior.

ACTION: Notice.

Notice is here given in accordance with the Native American Graves Protection and Repatriation Act (NAGPRA), 25 U.S.C. 3005, of the intent to repatriate cultural items in the control of the Department of Natural Resources, Des Moines, IA, and in the physical custody of the Office of the State Archaeologist, Iowa City, IA, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

On an unknown date, an unknown individual recovered cultural items from along the Columbia River in the state of Washington. On an unknown date, an unknown individual gave these artifacts to Paul Sagers, Maquoketa, IA. In 1988, the Sagers Collection was donated to the Iowa Department of Natural Resources. In late 2008, the Sagers Collection was transferred to the Iowa Office of the State Archaeologist for curation. The 178 cultural items are 14 small projectile points, 2 rolled metal beads, 2 flat shell beads, and approximately 160 small glass beads.

A small glass covered case displaying artifacts from the state of Washington was found in the Sagers Collection. In the case, there was a small hand-written note that stated the following “from Columbia River Village Site Wash. Roy Pitkin.” “F BAR” was written on the backside of the note. The minimal information included with these cultural items suggested they had been recovered from a village site in Washington State. Contacts with officials in Washington determined there are sites along the Columbia River known as Fountain Bar or Franklin Bar, and the cultural items may have come from one of those sites. No information on Roy Pitkin could be found.

Consultation and information sharing occurred with the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-Federally recognized Indian group. Based on the type and style of artifacts, the tribes believe the items may have come from a burial context. They consider the objects as typical of the type of funerary objects recovered from burials located along the Columbia River. The tribes have been involved in several joint repatriations that have included similar objects. Although museum records do not state that the objects were removed from a burial context, based on consultation, museum records on geographical location, and the similarity of the objects to other funerary objects, the officials of the Iowa Department of Natural Resources and Iowa Office of the State Archaeologist reasonably believe that the 178 cultural items are unassociated funerary objects.

Officials of the Iowa Department of Natural Resources and the Iowa Office of the State Archaeologist have determined that, pursuant to 25 U.S.C. 3001 (3)(B), the 178 cultural items described above are reasonably believed to have been placed with or near individual human remains at the time of death or later as part of the death rite or ceremony and are believed, by a preponderance of the evidence, to have been removed from a specific burial site of a Native American individual. Officials of the Iowa Department of Natural Resources and the Iowa Office of the State Archaeologist also have determined that, pursuant to 25 U.S.C. 3001 (2), there is a relationship of shared group identity that can be reasonably traced between the unassociated funerary objects and the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-Federally recognized Indian group.

Representatives of any other Indian tribe that believes itself to be culturally affiliated with the unassociated funerary objects should contact Shirley Schermer, Director, Burials Program, Office of the State Archaeologist, 700 Clinton St. Building, University of Iowa, Iowa City, IA 52242, telephone (319) 384-0740, before October 15, 2009. Repatriation of the unassociated funerary objects to the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-Federally recognized Indian group may proceed after that date if no additional claimants come forward.

The Iowa Department of Natural Resources and the Iowa Office of the State Archaeologist are responsible for notifying the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-Federally recognized Indian group, that this notice has been published.

Dated: July 20, 2009
Sherry Hutt,
Manager, National NAGPRA Program.

[FR Doc. E9-22212 Filed 9-14-09; 8:45 am]

BILLING CODE 4312-50-S